DEPARTMENT OF ENERGY

10 CFR Parts 430 and 431

[Docket No: EERE-2013-BT-NOA-0047]

RIN 1904-AD08

Energy Conservation Program: Energy Conservation Standards for Certain Consumer Products and Commercial and Industrial Equipment

AGENCY: Office of Energy Efficiency and Renewable Energy, Department of Energy.

ACTION: Final rule; technical amendment.

SUMMARY: The recently enacted American Energy Manufacturing Technical Corrections Act amended the Energy Policy and Conservation Act as to certain consumer products and commercial and industrial equipment. The amendments include new and revised energy conservation standards and definitions, as well as technical corrections, which the Department of Energy (DOE) is incorporating into its regulations in this technical amendment. DOE is also making additional limited changes to the language of its regulations, as necessitated by the statutory amendments.

DATES: Effective October 23, 2013. The incorporation by reference of certain publications listed in this rule is approved by the Director of the Federal Register as of October 23, 2013.

FOR FURTHER INFORMATION CONTACT:

Lucas Adin, U.S. Department of Energy, Office of Energy Efficiency and Renewable Energy, Building Technologies Office, EE-2J, 1000 Independence Avenue SW., Washington, DC, 20585-0121. Telephone: (202) 287-1317. Email: Lucas.Adin@ee.doe.gov.

James Silvestro, U.S. Department of Energy, Office of the General Counsel, GC-71, 1000 Independence Avenue SW., Washington, DC, 20585-0121. Telephone: (202) 586-4224. Email: James.Silvestro@hq.doe.gov.

SUPPLEMENTARY INFORMATION:

Table of Contents

I. Background

II. Summary of This Action

A. Walk-in Coolers and Walk-in Freezers

B. Service Over the Counter Commercial Refrigeration Equipment

C. Niche Residential Central Air Conditioners

D. Lighting Products

E. Preemption of State and Local Standards

III. Final Action

IV. Procedural Issues and Regulatory Review

A. Review Under Executive Orders 12866 and 13563

B. Review Under the Regulatory Flexibility Act

C. Review Under the Paperwork Reduction Act

D. Review Under the National Environmental Policy Act of 1969

E. Review Under Executive Order 13132

F. Review Under Executive Order 12988

G. Review Under the Unfunded Mandates Reform Act of 1995

H. Review Under the Treasury and General Government Appropriations Act, 1999

I. Review Under Executive Order 12630

J. Review Under the Treasury and General Government Appropriations Act, 2001

K. Review Under Executive Order 13211

L. Congressional Notification

V. Approval of the Office of the Secretary

I. Background

The American Energy Manufacturing Technical Corrections Act (AEMTCA; H.R. 6582), Public Law 112-210, was signed into law on December 18, 2012. Among its provisions are amendments to Part B ¹ of Title III of the Energy Policy and Conservation Act of 1975 (EPCA or “the Act”) (42 U.S.C. 6291-6309, as codified), which provides for an energy conservation program for consumer products other than automobiles, and to Part C ² of Title III of EPCA (42 U.S.C. 6311-6317, as codified), which provides for an energy conservation program for certain commercial and industrial equipment, similar to the one in Part B for consumer products.³ Some of the AEMTCA amendments to EPCA establish or modify certain energy conservation standards and related definitions, and make technical changes to the Act. Other AEMTCA amendments to EPCA prescribe criteria for the conduct of rulemakings to promulgate energy conservation standards for various consumer products and commercial and industrial equipment, or direct the Department of Energy (DOE) to undertake rulemakings under EPCA.

¹ For editorial reasons, upon codification in the U.S. Code, Part B was redesignated Part A.

² For editorial reasons, upon codification in the U.S. Code, Part C was redesignated Part A-1.

³ All references to EPCA in this document refer to the statute as amended through the enactment of the AEMTCA.

By this action, DOE is including in the Code of Federal Regulations (CFR) the new and modified standards and definitions, and certain of the technical changes, prescribed by the AEMTCA. DOE is also making additional changes to the language of its regulations that are necessitated by certain statutory language contained in AEMTCA's new and revised standards and definitions. This is a purely technical amendment, and at this time DOE is not exercising any of the authority that Congress has provided in the AEMTCA for the Secretary of Energy to revise definitions and energy conservation standards.

II. Summary of This Action

A. Walk-in Coolers and Walk-in Freezers

Walk-in coolers and walk-in freezers are two types of commercial equipment (hereinafter referred to collectively as “walk-ins”) that consist of a refrigerated storage space that an individual can walk into. See 10 CFR 431.302. DOE regulations currently provide, as required by EPCA, that walk-ins must contain wall, ceiling, and door insulation of R-25 for coolers and R-32 for freezers, but that glazed doors and structural members of walk-ins are not subject to these requirements. (42 U.S.C. 6313(f)(1)(C); 10 CFR 431.306(a)(3)) Section 2 of the AEMTCA added to EPCA a provision that the applicable walk-in insulation requirement will not apply to any walk-in component if its manufacturer demonstrates to the satisfaction of the Secretary of DOE that the component reduces energy consumption at least as much as if the insulation requirement were to apply. (42 U.S.C. 6313(f)(6)) This provision also states that, in support of any such demonstration, the manufacturer must provide all data and technical information necessary to evaluate its application. Id.

In this rule, DOE has amended 10 CFR 431.306(a)(3) to implement this new exception to the walk-in insulation requirements. The amendment makes clear, in accordance with the language that the AEMTCA added to EPCA, that the exception applies to a component only if the component manufacturer provides the data and technical information necessary to fully evaluate whether the component reduces energy consumption at least as much as if the insulation requirement were to apply. The amendment also states that any demonstration of such reduction in energy use must be made to the Assistant Secretary for Energy Efficiency and Renewable Energy, who is the individual that the Secretary of DOE has delegated responsibility for implementing DOE's energy conservation program for commercial and industrial equipment.

B. Service Over the Counter Commercial Refrigeration Equipment

Prior to the enactment of the AEMTCA, service over the counter commercial refrigeration equipment was not specifically defined or identified in EPCA. Service over the counter commercial refrigerators are a type of commercial refrigerator, see 42 U.S.C. 6311(9) and 10 CFR 431.62, that display merchandise (usually food) to potential customers, serve as a counter, and from which sales personnel sell the products on display. Prior to the enactment of the AEMTCA, EPCA defined commercial refrigeration equipment such that the equipment was covered by DOE's energy conservation standards, incorporated from EPCA, for commercial refrigerators with a self-contained condensing unit and designed for holding temperature applications. 10 CFR 431.66(b); 42 U.S.C. 6313(c)(2). Section 5 of the AEMTCA amended EPCA by adding to the Act a definition and new standards that apply specifically to service over the counter, self-contained, medium temperature commercial refrigerators. (42 U.S.C. 6313(c)(1)(C); 6313(c)(4))

In this rule, DOE has incorporated into its regulations EPCA's new denomination of the equipment as “service over the counter, self-contained, medium temperature commercial refrigerator” (“SOC-SC-M”), and the Act's new definition for theis term. However, DOE also added to this definition to clarify that “medium temperature” means equal to or greater than 32 °F. This addition reflects DOE's standard usage of the term “medium temperature” in its standards for commercial refrigeration equipment (CRE). 10 CFR 431.66(d)(1).

This rule adopts the new standard that the AEMTCA prescribes for this SOC-SC-Ms and adds language to 10 CFR 431.66(b) to make clear that the current standards for commercial refrigerators, set forth in 10 CFR 431.66(b)(1), no longer apply to to service over the counter equipment. One element of the new standard applicable to SOC-SC-Ms is the “TDA” (total display area) of the equipment. (42 U.S.C. 6313(c)(4)) The AEMTCA adds to EPCA a definition of TDA, as being the display area of the case as defined in AHRI Standard 1200. (42 U.S.C. 6313(c)(1)(D)) Because Congress did not specify a version of the relevant industry standard (AHRI Standard 1200), DOE is using its rulemaking authority to clarify this ambiguity by specifying the current version, which is AHRI Standard 1200-2010. Therefore, in conjunction with adopting the new standard, in this rule, DOE incorporates AHRI Standard 1200-2010 into the new EPCA definition of TDA that it also adopts.

Finally, because TDA is an element of many of DOE's existing CRE standards, the DOE regulations already contain the same definition for TDA that AEMTCA has added to EPCA, except that the existing DOE definition does not refer to the current version of AHRI 1200. 10 CFR 431.66(a)(3). DOE intends to update this reference, and amend its rules to have a single definition of TDA, in a future final rule. In the meantime, in this rule, DOE is adding language to 10 CFR 431.66(a)(3) to make clear that the definition of TDA in 10 CFR 431.66(a)(3) does not apply to SOC-SC-Ms.

C. Niche Residential Central Air Conditioners

Small duct high velocity systems (SDHVs) and through-the-wall central air conditioners and heat pumps (TTWs) are residential central air conditioners and heat pumps (CACs) that are used for specialized applications and that have physical characteristics differentiating them from typical CACs. Prior to enactment of the AEMTCA, EPCA did not explicitly address either SDHVs or TTWs.

Nonetheless, DOE created a separate product class and the current DOE definition for SDHVs. 67 FR 36368, 36405-06 (May 23, 2002); 10 CFR 430.2. Also existing DOE regulations include energy conservation standards specifically for SDHVs in two tables that contain standards for all CACs—one table for products manufactured on and after January 23, 2006, and before January 1, 2015, and the other for units manufactured thereafter. 10 CFR 430.32(c)(2)-(3). The SDHV standard levels in the two tables are the same (a seasonal energy efficiency ratio (SEER) of not less than 13 and a heating seasonal performance factor (HSPF) of not less than 7.7). However, DOE granted two of the principal SDHV manufacturers relief from these standards under section 504 of the Department of Energy Organization Act (42 U.S.C. 7194), allowing them to produce, prior to January 1, 2015, SDHVs that performed at or above 11 SEER and 6.8 HSP. See, Department of Energy: Office of Hearings and Appeals, Decision and Order, Case #TEE 0010 (2004) (available at: http://www.oha.doe.gov/cases/ee/tee0010.pdf) (last accessed September 2010); 76 FR 37408, 37514, 37541-42 (June 27, 2011). This grant of relief, however, will not apply to products that the designated manufacturers manufacture on or after January 1, 2015. 76 FR 37541-42.

Section 5 of the AEMTCA added to EPCA a definition and standards specifically for SDHVs. (42 U.S.C. 6295(d)(4)) The new EPCA definition (42 U.S.C. 6295(d)(4)(A)(i)) repeats verbatim the wording of DOE's definition of SDHV, with one minor editorial change. In this rule, DOE incorporates this change into its definition of SDHV. EPCA's new standards for SDHVs are for the same time periods as DOE's existing SDHV standards and establish that SDHV units manufactured on or after January 23, 2006 and before January 1, 2015, must perform at or above 11 SEER and 6.8 HSP and SDHV units manufactured on January 1, 2015, and thereafter must perform at or above 12 SEER and 7.2 HSP. In this rule, DOE has replaced its current standards for SDHVs with these new EPCA standards.

As with SDHVs, DOE currently has in place a definition for TTWs. 10 CFR 430.2 One of the criteria in the definition was that the product be “manufactured prior to January 23, 2010.” Id. The table in DOE's regulations that has standards for CACs manufactured on and after January 23, 2006 and prior to January 1, 2015, includes standards specifically for TTWs. 10 CFR 432.32(c)(2) But a footnote to the term “through-the-wall air conditioners and heat pumps” in section 430.32(c) states that the two TTW product classes (for split system and single package products) only applied to products manufactured prior to January 23, 2010, and that any unit manufactured after that date, and that would previously have been classified as a TTW, must be included within another CAC product class, depending on the TTW's characteristics. Id. DOE further states in the footnote that it believes most units previously classified as TTWs would be assigned to one of the classes for “space-constrained” CACs. Id. An identical footnote also is appended to the table that sets forth the standards for CACs manufactured on or after January 1, 2015, but that table includes no standards specifically for TTWs. 10 CFR 432.32(c)(3) Thus DOE regulations contain no separate TTW classes for units manufactured beginning on January 23, 2010. Any unit manufactured on or after that date, and that previously would have been classified as a TTW, must be placed within one of the remaining CAC product classes, and must meet the standard(s) applicable to that class.

Again similar to the situation with SDHVs, DOE created the TTW definition and product classes, and the energy conservation standards that applied specifically to TTWs. (67 FR 36368, 36396, 36397, 36405-06 (May 23, 2002)) The AEMTCA amendments to EPCA add to the Act a definition for TTWs, but address TTW standards only by directing DOE to “conduct subsequent rulemakings” for TTWs (and SDHVs) as part of “any rulemaking . . . to review and revise standards” for other CACs. (42 U.S.C. 6295(d)(4)(A)(ii) and (d)(4)(C)) The new EPCA definition deviates significantly from DOE's existing TTW definition by eliminating the criterion that the product be manufactured prior to January 23, 2010, although it is otherwise identical to the DOE definition except for a few minor editorial changes. In this rule DOE is revising its definition for TTWs to conform to the new EPCA definition.

D. Lighting Products

EPCA prescribes, and DOE's regulations incorporate, two sets of standards for general service incandescent lamps (GSIL): one for lamps with a modified spectrum and another for lamps without a modified spectrum. (42 U.S.C. 6295(i)(1)(A); 10 CFR 430.32(x)(1)) Also, EPCA defines “general service incandescent lamp,” (42 U.S.C. 6291(30)) and DOE's existing regulations incorporated, with minor editorial changes, the definition that existed in EPCA prior to the enactment of the AEMTCA. (10 CFR 430.2) The DOE definition, and the pre-AEMTCA EPCA definition, define a GSIL as a lamp that “has a lumen range of not less than 310 lumens and not more than 2,600 lumens.” Id. No other lumen range is specified in these definitions. Section 10(a)(6) of the AEMTCA amends EPCA by modifying the Act's prior definition to add that a modified spectrum lamp can be a GSIL under EPCA only if its lumen range is “not less than 232 lumens and not more than 1,950 lumens.” (42 U.S.C. 6291(30)) As stated in AEMTCA, this change is retroactive and should be applied as if it were included in the Energy and Infrastructure Security Act of 2007 (EISA). (AEMTCA section 10(a)(13))

In this final rule, DOE has modified the regulatory definition of “general service incandescent lamp” to incorporate the language that the AEMTCA added to the EPCA definition of this term. The revised definition of GSIL reflects the fact that a modified spectrum GSIL will have a lower light output than a GSIL without a modified spectrum, assuming that all other characteristics of the lamps are the same. In addition, the change conforms the lumen range of modified spectrum GSILs covered by EPCA with the lumen range of such GSILs for which the Act prescribes standards. (See 42 U.S.C. 6295(i)(1)(A); 10 CFR 430.32(x)(1)(B))

Another element of EPCA's definition of “general service incandescent lamp” is that it excludes any lamp that is an “appliance lamp,” as that term is defined in the Act. 42 U.S.C. 6291(30)(D)(ii)(I), 6291(30)(T)); see also 10 CFR 430.2. Thus, a lamp that otherwise would be a GSIL need not meet EPCA requirements for GSILs if it is an “appliance lamp.” DOE's existing definition of “appliance lamp,” which is identical to the EPCA definition prior to enactment of the AEMTCA, includes the requirements that the lamp be “sold at retail” and that the lamp be labeled and marketed as an appliance lamp. 10 CFR 430.2 Section 10(a)(7) of the AEMTCA revised this prior EPCA definition by eliminating the requirement that a lamp be sold at retail to be an “appliance lamp,” and by adding a provision that the packaging and marketing criteria apply only to those lamps that are sold at retail. In this final rule, DOE has incorporated these revisions into its definition of “appliance lamp,” in conformance with the post-AEMTCA EPCA definition. As stated in AEMTCA, this change is retroactive and should be applied as if it were included in the Energy and Infrastructure Security Act of 2007 (EISA). (AEMTCA section 10(a)(13))

Finally, DOE regulations, incorporating EPCA provisions, excluded specified types of fluorescent lamp ballasts from the current energy conservation standards for ballasts. 10 CFR 430.32(m)(5)-(7). Among the excluded products were certain ballasts designed for use at ambient temperatures of 20 degrees F or less. 10 CFR 430.32(m)(7). Section 10(b)(1) of the AEMTCA amended EPCA by adding the word “negative” to this exclusion as it appears in EPCA, (42 U.S.C. 6295(g)(8)(C)), clarifying that the exclusion is intended to be for ballasts designed for use at ambient temperatures of negative 20 degrees F or less. Accordingly, in this final rule, DOE has made the same change to the language of this exclusion in its regulations at 10 CFR 430.32(m)(7). As stated in AEMTCA, this change is retroactive and should be applied as if it were included in the Energy Policy and Conservation Act of 2005. (AEMTCA section 10(b)(2))

E. Preemption of State and Local Standards

EPCA preempts any requirements of State and local governments concerning the energy efficiency or energy use of products and equipment covered by the Act, with certain exceptions. See, e.g., 42 U.S.C. 6297(a)(2), (b), and (c), and 6316(a). Prior to the enactment of the AEMTCA, one exception in EPCA to the general rule of preemption permitted States other than California and Nevada to adopt or modify a state standard for general service lamps to conform with Federal standards, and DOE incorporated this provision into its regulations. 10 CFR 430.33(b)(3). Section 10(a)(9) of the AEMTCA amends EPCA by removing this provision, and in this final rule DOE likewise amends section 430.33(b) to remove this exception to general service lamp standard preemption.

The AEMTCA, in section 10(a)(5)(C), also amends EPCA by adding a new provision concerning preemption as to commercial or industrial equipment that EPCA does not list as “covered equipment” but that DOE classifies as covered under the Act. 42 U.S.C. 6316(a)(10). DOE addresses preemption of state regulations for “covered equipment,” other than electric motors and heating, ventilating, air conditioning, and water heating equipment, in 10 CFR 431.408. This section includes references to the EPCA provisions that contain exceptions to the general rule of preemption. In this final rule, DOE amends this section to add a reference to the new EPCA provision concerning preemption, as set forth at 42 U.S.C 6316(a)(10).

III. Final Action

DOE has determined, pursuant to 5 U.S.C. 553(b)(B), that prior notice and an opportunity for public comment on this final rule are unnecessary. DOE is merely placing in the CFR new and revised energy conservation standards and definitions for certain consumer products and commercial and industrial equipment, as well as technical corrections, prescribed by the Congress in the AEMTCA and making other limited revisions to its regulations as necessitated by the new and revised statutory requirements. DOE is not exercising any of the discretionary authority that the Congress has provided to the Secretary of Energy in the AEMTCA. DOE, therefore, finds that good cause exists to waive prior notice and an opportunity to comment for this rulemaking. For the same reasons, DOE, pursuant to 5 U.S.C. 553(d)(3), finds that good cause exists for making this final rule effective upon publication in the Federal Register.

IV. Procedural Issues and Regulatory Review

A. Review Under Executive Orders 12866 and 13563

This final rule is not a “significant regulatory action” under section 3(f)(1) of Executive Order 12866 and the principles reaffirmed in Executive Order 13563. Accordingly, this action was neither subject to review by the Office of Information and Regulatory Affairs (OIRA) in the Office of Management and Budget (OMB) nor public notice and comment.

B. Review Under the Regulatory Flexibility Act

The Regulatory Flexibility Act (5 U.S.C. 601 et seq.) requires preparation of an initial regulatory flexibility analysis for any rule that by law must be proposed for public comment, unless the agency certifies that the rule, if promulgated, will not have a significant economic impact on a substantial number of small entities. As required by Executive Order 13272, “Proper Consideration of Small Entities in Agency Rulemaking,” 67 FR 53461 (August 16, 2002), DOE published procedures and policies on February 19, 2003, to ensure that the potential impacts of its rules on small entities are properly considered during the rulemaking process. 68 FR 7990. DOE has made its procedures and policies available on the Office of the General Counsel's Web site (http://energy.gov/gc/office-general-counsel). DOE today is revising the Code of Federal Regulations to incorporate and implement, without substantive change, new and revised energy conservation standards and definitions, as well as technical corrections, prescribed by the American Energy Manufacturing Technical Corrections Act as amendments to the Energy Policy and Conservation Act. Because this is a technical amendment for which a general notice of proposed rulemaking is not required, the analytical requirements of the Regulatory Flexibility Act do not apply to this rulemaking.

C. Review Under the Paperwork Reduction Act

This rulemaking imposes no new information or record keeping requirements. Accordingly, Office of Management and Budget clearance is not required under the Paperwork Reduction Act. (44 U.S.C. 3501 et seq.)

D. Review Under the National Environmental Policy Act of 1969

Pursuant to the National Environmental Policy Act of 1969, DOE has determined that this rule is covered under the Categorical Exclusion found in DOE's National Environmental Policy Act regulations at paragraph A.6 of Appendix A to Subpart D, 10 CFR Part 1021, which applies to rulemakings that are strictly procedural. Therefore, DOE does not need to prepare an Environmental Assessment or Environmental Impact Statement for this rule.

E. Review Under Executive Order 13132

Executive Order 13132, “Federalism,” 64 FR 43255 (Aug. 10, 1999) imposes certain requirements on Federal agencies formulating and implementing policies or regulations that preempt State law or that have Federalism implications. The Executive Order requires agencies to examine the constitutional and statutory authority supporting any action that would limit the policymaking discretion of the States and to carefully assess the necessity for such actions. The Executive Order also requires agencies to have an accountable process to ensure meaningful and timely input by State and local officials in the development of regulatory policies that have Federalism implications. On March 14, 2000, DOE published a statement of policy describing the intergovernmental consultation process it will follow in the development of such regulations. 65 FR 13735. EPCA governs and prescribes Federal preemption of State regulations as to energy conservation for the products that are the subject of this final rule. States can petition DOE for exemption from such preemption to the extent, and based on criteria, set forth in EPCA. (42 U.S.C. 6297) No further action is required by Executive Order 13132.

F. Review Under Executive Order 12988

With respect to the review of existing regulations and the promulgation of new regulations, section 3(a) of Executive Order 12988, “Civil Justice Reform,” imposes on Federal agencies the general duty to adhere to the following requirements: (1) Eliminate drafting errors and ambiguity; (2) write regulations to minimize litigation; and (3) provide a clear legal standard for affected conduct rather than a general standard and promote simplification and burden reduction. 61 FR 4729 (Feb. 7, 1996). Section 3(b) of Executive Order 12988 specifically requires that Executive agencies make every reasonable effort to ensure that the regulation: (1) Clearly specifies the preemptive effect, if any; (2) clearly specifies any effect on existing Federal law or regulation; (3) provides a clear legal standard for affected conduct while promoting simplification and burden reduction; (4) specifies the retroactive effect, if any; (5) adequately defines key terms; and (6) addresses other important issues affecting clarity and general draftsmanship under any guidelines issued by the Attorney General. Section 3(c) of Executive Order 12988 requires Executive agencies to review regulations in light of applicable standards in section 3(a) and section 3(b) to determine whether they are met or it is unreasonable to meet one or more of them. DOE has completed the required review and determined that, to the extent permitted by law, this final rule meets the relevant standards of Executive Order 12988.

G. Review Under the Unfunded Mandates Reform Act of 1995

Title II of the Unfunded Mandates Reform Act of 1995 (UMRA) requires each Federal agency to assess the effects of Federal regulatory actions on State, local, and Tribal governments and the private sector. Pub. L. 104-4, sec. 201 (codified at 2 U.S.C. 1531). For a proposed regulatory action likely to result in a rule that may cause the expenditure by State, local, and Tribal governments, in the aggregate, or by the private sector of $100 million or more in any one year (adjusted annually for inflation), section 202 of UMRA requires a Federal agency to publish a written statement that estimates the resulting costs, benefits, and other effects on the national economy. (2 U.S.C. 1532(a), (b)) The UMRA also requires a Federal agency to develop an effective process to permit timely input by elected officers of State, local, and Tribal governments on a “significant intergovernmental mandate,” and requires an agency plan for giving notice and opportunity for timely input to potentially affected small governments before establishing any requirements that might significantly or uniquely affect small governments. On March 18, 1997, DOE published a statement of policy on its process for intergovernmental consultation under UMRA. 62 FR 12820. DOE's policy statement is also available at http://energy.gov/gc/office-general-counsel. This final rule contains neither an intergovernmental mandate nor a mandate that may result in the expenditure of $100 million or more in any year, so the Unfunded Mandates Reform Act does not apply.

H. Review Under the Treasury and General Government Appropriations Act, 1999

Section 654 of the Treasury and General Government Appropriations Act, 1999 (Pub. L. 105-277) requires Federal agencies to issue a Family Policymaking Assessment for any rule that may affect family well-being. This rule would not have any impact on the autonomy or integrity of the family as an institution. Accordingly, DOE has concluded that it is not necessary to prepare a Family Policymaking Assessment.

I. Review Under Executive Order 12630

DOE has determined, under Executive Order 12630, “Governmental Actions and Interference with Constitutionally Protected Property Rights,” 53 FR 8859 (March 18, 1988), that this regulation would not result in any takings that might require compensation under the Fifth Amendment to the U.S. Constitution.

J. Review Under the Treasury and General Government Appropriations Act, 2001

Section 515 of the Treasury and General Government Appropriations Act, 2001 (44 U.S.C. 3516, note) provides for Federal agencies to review most disseminations of information to the public under guidelines established by each agency pursuant to general guidelines issued by OMB. OMB's guidelines were published at 67 FR 8452 (Feb. 22, 2002), and DOE's guidelines were published at 67 FR 62446 (Oct. 7, 2002). DOE has reviewed this final rule under the OMB and DOE guidelines and has concluded that it is consistent with applicable policies in those guidelines.

K. Review Under Executive Order 13211

Executive Order 13211, “Actions Concerning Regulations That Significantly Affect Energy Supply, Distribution, or Use” 66 FR 28355 (May 22, 2001), requires Federal agencies to prepare and submit to OIRA at OMB, a Statement of Energy Effects for any significant energy action. A “significant energy action” is defined as any action by an agency that promulgates or is expected to lead to promulgation of a final rule, and that: (1) Is a significant regulatory action under Executive Order 12866, or any successor order; and (2) is likely to have a significant adverse effect on the supply, distribution, or use of energy, or (3) is designated by the Administrator of OIRA as a significant energy action. For any significant energy action, the agency must give a detailed statement of any adverse effects on energy supply, distribution, or use should the proposal be implemented, and of reasonable alternatives to the action and their expected benefits on energy supply, distribution, and use.

DOE has concluded that this regulatory action is not a significant energy action because it is not likely to have a significant adverse effect on the supply, distribution, or use of energy, nor has it been designated as such by the Administrator at OIRA. Accordingly, DOE has not prepared a Statement of Energy Effects on the final rule.

L. Congressional Notification

As required by 5 U.S.C. 801, DOE will report to Congress on the promulgation of this rule prior to its effective date. The report will state that it has been determined that the rule is not a “major rule” as defined by 5 U.S.C. 804(2).

V. Approval of the Office of the Secretary

The Secretary of Energy has approved publication of this final rule.

List of Subjects

10 CFR Part 430

Administrative practice and procedure, Confidential business information, Energy conservation, Household appliances, Imports, Intergovernmental relations, Small businesses.

10 CFR Part 431

Administrative practice and procedure, Energy conservation, Commercial products, Incorporation by reference.

Issued in Washington, DC, on September 30, 2013.
David T. Danielson,
Assistant Secretary, Energy Efficiency and Renewable Energy.

For the reasons set forth in the preamble, DOE hereby amends parts 430 and 431 of chapter II, subchapter D, of title 10 of the Code of Federal Regulations, as set forth below:

PART 430—ENERGY CONSERVATION PROGRAM FOR CONSUMER PRODUCTS

1. The authority citation for part 430 continues to read as follows:

Authority: 42 U.S.C. 6291-6309; 28 U.S.C. 2461 note.

2. Section 430.2 is amended by:

a. Revising paragraph (1) and the introductory text of paragraph (2) in the definition of “appliance lamp”;

b. Revising the introductory text in the definition of “general service incandescent lamp”; and

c. Removing the word “which” and adding in its place, the word “that” in paragraph (2) of the definition of “small duct, high velocity system.”

The revisions read as follows:

§ 430.2 Definitions.

* * * * *

Appliance lamp * * *

(1) Is specifically designed to operate in a household appliance and has a maximum wattage of 40 watts (including an oven lamp, refrigerator lamp, and vacuum cleaner lamp); and

(2) When sold at retail, is designated and marketed for the intended application, with

* * * * *

General service incandescent lamp means a standard incandescent or halogen type lamp that is intended for general service applications; has a medium screw base; has a lumen range of not less than 310 lumens and not more than 2,600 lumens or, in the case of a modified spectrum lamp, not less than 232 lumens and not more than 1,950 lumens; and is capable of being operated at a voltage range at least partially within 110 and 130 volts; however this definition does not apply to the following incandescent lamps—

* * * * *

§ 430.31 [Amended]

3. Section 430.31 is amended by removing the second sentence.

§ 430.33 [Amended]

4. Section 430.33 is amended by:

a. Adding “and” at the end of paragraph (b)(1);

b. Removing “; and” and adding in its place a period at the end of paragraph (b)(2); and

c. Removing paragraph (b)(3).

PART 431—ENERGY CONSERVATION PROGRAM FOR CONSUMER PRODUCTS

5. The authority citation for part 431 continues to read as follows:

Authority: 42 U.S.C. 6291-6317.

6. Section 431.62 is amended by adding in alphabetical order a definition of “service over the counter, self-contained, medium temperature commercial refrigerator” or “SOC-SC-M” to read as follows:

§ 431.62 Definitions concerning commercial refrigerators, freezers and refrigerator-freezers.

* * * * *

Service over the counter, self-contained, medium temperature commercial refrigerator or SOC-SC-M means a commercial refrigerator—

(1) That operates at temperatures at or above 32 °F;

(2) With a self-contained condensing unit;

(3) Equipped with sliding or hinged doors in the back intended for use by sales personnel, and with glass or other transparent material in the front for displaying merchandise; and

(4) That has a height not greater than 66 inches and is intended to serve as a counter for transactions between sales personnel and customers.

* * * * *

§ 431.63 [Amended]

7. Section 431.63 is amended, in paragraph (c)(2), by removing “§ 431.64.”, and adding in its place “§§ 431.64 and 431.66.”.

8. Section 431.66 is amended by:

a. Revising paragraph (a)(3);

b. Adding in paragraph (b) the designation “(1)” immediately after “(b)” and revising newly designated paragraph (b)(1) introductory text; and

c. Adding paragraph (b)(2).

The revision and additions read as follows:

§ 431.66 Energy conservation standards and their effective dates.

(a) * * *

(3) Except as to service over the counter, self-contained, medium temperature commercial refrigerators manufactured on or after January 1, 2012, the term “TDA” means the total display area (ft²) of the case, as defined in the ARI Standard 1200-2006, appendix D (incorporated by reference, see § 431.63).

(b)(1) Except for service over the counter, self-contained, medium temperature commercial refrigerators manufactured on or after January 1, 2012, each commercial refrigerator, freezer and refrigerator-freezer with a self-contained condensing unit designed for holding temperature applications manufactured on or after January 1, 2010, shall have a daily energy consumption (in kilowatt hours per day) that does not exceed the following:

* * * * *

(2) Each service over the counter, self-contained, medium temperature commercial refrigerator (SOC-SC-M) manufactured on or after January 1, 2012, shall have a total daily energy consumption (in kilowatt hours per day) of not more than 0.6 × TDA + 1.0. As used in the preceding sentence, “TDA” means the total display area (ft²) of the case, as defined in the AHRI Standard 1200 (I-P)-2010, appendix D (incorporated by reference, see § 431.63).

* * * * *

9. Section 431.306 is amended by revising paragraph (a)(3) to read as follows:

§ 431.306 Energy conservation standards and their effective dates.

(a) * * *

(3) Contain wall, ceiling, and door insulation of at least R-25 for coolers and R-32 for freezers, except that this paragraph shall not apply to—

(i) Glazed portions of doors or structural members, or

(ii) A wall, ceiling or door if the manufacturer of that component has provided to the Assistant Secretary for Energy Efficiency and Renewable Energy all data and technical information necessary to fully evaluate whether the component reduces energy consumption at least as much as if this paragraph were to apply, and has demonstrated to the satisfaction of the Assistant Secretary that the component achieves such a reduction in energy consumption;

* * * * *

§ 431.408 [Amended]

10. Section 431.408 is amended by adding, in the second sentence, “(a)(10),” immediately after “345” and before “(e).”

[FR Doc. 2013-24353 Filed 10-22-13; 8:45 am]

BILLING CODE 6450-01-P